DEPARTMENT OF LABOR

Mine Safety and Health Administration

Petitions for Modification of Application of Existing Mandatory Safety Standards

AGENCY: Mine Safety and Health Administration, Labor.

ACTION: Notice.

SUMMARY: This notice is a summary of 5 petitions for modification submitted to the Mine Safety and Health Administration (MSHA) by the parties listed below.

DATES: All comments on the petitions must be received by MSHA's Office of Standards, Regulations, and Variances on or before September 4, 2020.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Roslyn B. Fontaine, Deputy Director, Office of Standards, Regulations, and Variances. Persons delivering documents are required to check in at the receptionist's desk in Suite 4E401. Individuals may inspect copies of the petition and comments during normal business hours at the address listed above.

MSHA will consider only comments postmarked by the U.S. Postal Service or proof of delivery from another delivery service such as UPS or Federal Express on or before the deadline for comments.

FOR FURTHER INFORMATION CONTACT: Aromie Noe, Office of Standards, Regulations, and Variances at 202-693-9557 (voice), Noe.Song-Ae.A@dol.gov (email), or 202-693-9441 (facsimile). [These are not toll-free numbers.]

SUPPLEMENTARY INFORMATION: Section 101(c) of the Federal Mine Safety and Health Act of 1977 and Title 30 of the Code of Federal Regulations Part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, the regulations at 30 CFR 44.10 and 44.11 establish the requirements for filing petitions for modification.

II. Petitions for Modification

Docket Number: M-2020-014-C.

Petitioner: Westmoreland San Juan Mining LLC, P.O. Box 561, Waterflow, NM 87421.

Mine: San Juan Mine 1, MSHA I.D. No. 29-02170, located in San Juan County, New Mexico.

Regulation Affected: 30 CFR 75.500(d) (Permissible electric equipment).

Modification Request: The petitioner requests a modification of the existing standard to permit an alternative method of compliance to allow the use of two Powered Air Purifying Respirator (PAPR) devices (the 3M™ Versaflo™ TR-800 PAPR and the PAF-0060 CleanSpace EX PAPR) for the respiratory protection of miners, in or inby the last open crosscut.

The petitioner states that:

(a) The San Juan Mine 1 is an underground coal mining operation that uses longwall and continuous mining to fuel the nearby San Juan Generating Station.

(b) The current PAPR model approved by MSHA is the 3M Airstream Mining Headgear-Mounted PAPR system, which was discontinued by 3M on June 1, 2020. There are no other MSHA-approved units. Because of that, the petitioner is requesting the use of two alternative PAPR units.

As an alternative to the existing standard, the petitioner proposes the following:

(a) The petitioner requests the approval of the 3M™ Versaflo™ TR-800 PAPR, which is certified by UL under the ANSI/UL 60079-11 standard to be used in hazardous locations (it meets the most onerous intrinsic safety level and is acceptable for use in mines with potential firedamp).

(b) The second product is the PAF-0060 CleanSpace EX PAPR. It holds the following approvals: EN 12942:1998+A2:2008 TM3 (Europe), SANS 10338: 2009, (NRCS/8072/0090) (South Africa), AS/NZS1716:2012 PAPR-P2 (Australia/NZ), ISO 9001 (Quality Management System), IECEx: IEC 60079-0:2011 Ex ia I Ma, IECEx: IEC 60079-11:2011 Ex ib IIB T4 Gb, IIECEx Quality Assurance: IEC 80079-34:2011, ATEX/EN EX: EN 60079-0:2012 I M1 Ex ia I Ma, ATEX/EN EX: EN 60079-11:2012 II 2 G Ex ib IIB T4 Gb, ATEX Quality Assurance: Annex IV of Directive 94/9/EC (ATEX), EMC Standard: CISPR 11: 2010: Group 1 Class B.

(c) Before energizing either product, methane tests will be made in the mine atmosphere, in accordance with 30 CFR 75.360 and 30 CFR 75.362. The tests will continue in areas where the devices are worn.

(d) The above products will be examined before use and prior to being taken underground to make sure that they work according to the equipment manufacturer's recommendations and maintained in safe operating conditions. The examinations will include the following:

(1) The instrument will be checked for physical damage and the integrity of the case;

(2) Batteries will be removed for inspection for corrosion;

(3) Contact points will be inspected to ensure a secure connection to the battery;

(4) The battery will be reinserted powered up and shut down to ensure proper connections; and

(5) Battery compartment covers or attachments will be checked to make sure they are securely fastened.

(6) If a product uses lithium cells, the examination must ensure that lithium cells and/or packs are not damaged (or swollen in size).

(e) The products will not be put into service until MSHA has inspected them and deemed them in compliance with the terms and conditions of this petition.

(f) The products will not be used if methane is found at or above 1.0 percent. If the methane levels are higher than 1.0 percent while the products are being used, the equipment will immediately be deenergized and withdrawn from affected areas.

(g) Hand-held methane detectors will be MSHA approved and maintained in permissible and proper operating condition in accordance with 30 CFR 75.320(a). Methane detectors will provide visual and audible warnings when they detect methane at or above 1.0 percent.

(h) A qualified person, in accordance with the definition in 30 CFR 75.151, will continuously monitor for methane immediately before and during the use of these products. When crews are working together, at least one qualified person will monitor for methane continuously. If continuous monitoring systems are installed by a longwall face, if they have audible and visual alarms for detecting methane at 1.0 or higher, this will satisfy the requirement for monitoring methane.

(i) Batteries for these products will be “changed out” or “charged” in intake air. Before each shift that these products will be used, batteries for the equipment will be charged so as not to need a replacement during the shift.

(j) The 3M™ Versaflo™ TR-800 PAPR will only use the 3M TR-830 Battery pack. This pack meets the UL1642 or IEC 62133 standards for safety. The following will be done for battery packs:

(1) They will be charged on the surface or in underground not within 150 feet of a worked-out area;

(2) they will be charged by the following products: 3M Battery Charger Kit TR-641N, or 3M 4-Station Battery Charger Kit TR-644N;

(3) they will only be disassembled or modified by those permitted by the manufacturer of the equipment;

(4) the battery will not be exposed to water (or get wet), not including incidental exposure of sealed battery packs as a result of overspray from dust suppression sprays or equipment cleaning;

(5) they will not be used or stored near heat sources or placed in direct sunlight; and

(6) they will not be used when there is a performance decrease of greater than 20 percent in battery operated equipment (at the end of the product's life cycle). The battery will be disposed of properly.

(k) Electromagnetic interference from the products will be investigated by the petitioner and all safety devices will be worn by miners (devices such as proximity detection system miner wearable components, gas detectors, tracking system components, and communication devices). Before placing the PAPR systems into service, the petitioner will inform MSHA if any interference is identified and how to eliminate such interference. Miners will be trained on the above.

(l) Miners using these PAPRs will be trained to recognize hazards and limitations associated with PAPRs.

(m) All section foremen, section crew members, and others involved with PAPRs will receive training, as required in 30 CFR 48.7. The training will be provided before use in this area.

(n) Within 60 days of when the order becomes final, the petitioner will submit revisions for their 30 CFR part 48 training plan. This will include using the Self-Contained Self Rescuer while using a PAPR, initial training, and refresher training. For training, the petitioner will complete the 5000-23 form (MSHA Certificate of Training).

(o) The petitioner asserts that the proposed alternative method will at all times guarantee no less than the same measure of protection afforded by the existing standard.

Docket Number: M-2020-015-C.

Petitioner: Westmoreland San Juan Mining LLC, P.O. Box 561, Waterflow, NM 87421.

Mine: San Juan Mine 1, MSHA I.D. No. 29-02170, located in San Juan County, New Mexico.

Regulation Affected: 30 CFR 75.507-1 (Electric equipment other than power-connection points; outby the last open crosscut; return air; permissibility requirements).

Modification Request: The petitioner requests a modification of the existing standard to permit an alternative method of compliance to allow the use of two Powered Air Purifying Respirator (PAPR) devices (the 3M™ Versaflo™ TR-800 PAPR and the PAF-0060 CleanSpace EX PAPR) for the respiratory protection of miners, in return air outby the last open crosscut.

The petitioner states that:

(a) The San Juan Mine 1 is an underground coal mining operation that uses longwall and continuous mining to fuel the nearby San Juan Generating Station.

(b) The current PAPR model approved by MSHA is the 3M Airstream Mining Headgear-Mounted PAPR system, which was discontinued by 3M on June 1, 2020. There are no other MSHA-approved units. Because of that, the petitioner is requesting the use of two alternative PAPR units.

As an alternative to the existing standard, the petitioner proposes the following:

(a) The petitioner requests the approval of the 3M™ Versaflo™ TR-800 PAPR, which is certified by UL under the ANSI/UL 60079-11 standard to be used in hazardous locations (it meets the most onerous intrinsic safety level and is acceptable for use in mines with potential firedamp).

(b) The second product is the PAF-0060 CleanSpace EX PAPR. It holds the following approvals: EN 12942:1998+A2:2008 TM3 (Europe), SANS 10338: 2009, (NRCS/8072/0090) (South Africa), AS/NZS1716:2012 PAPR-P2 (Australia/NZ), ISO 9001 (Quality Management System), IECEx: IEC 60079-0:2011 Ex ia I Ma, IECEx: IEC 60079-11:2011 Ex ib IIB T4 Gb, IIECEx Quality Assurance: IEC 80079-34:2011, ATEX/EN EX: EN 60079-0:2012 I M1 Ex ia I Ma, ATEX/EN EX: EN 60079-11:2012 II 2 G Ex ib IIB T4 Gb, ATEX Quality Assurance: Annex IV of Directive 94/9/EC (ATEX), EMC Standard: CISPR 11: 2010: Group 1 Class B.

(c) Before energizing either product, methane tests must be conducted in the mine atmosphere, in accordance with 30 CFR 75.360 and 30 CFR 75.362. The tests will continue in areas where the devices are worn.

(d) The above products will be examined before use and prior to being taken underground to make sure that they work according to the equipment manufacturer's recommendations and maintained in safe operating conditions. The examinations will include the following:

(1) The instrument will be checked for physical damage and the integrity of the case;

(2) Batteries will be removed for inspection for corrosion;

(3) Contact points will be inspected to ensure a secure connection to the battery;

(4) The battery will be reinserted and the power up will be shut down to ensure connections; and

(5) Battery compartment covers or attachments will be checked to make sure they are properly fastened.

(6) If a product uses lithium cells, the examination must ensure that lithium cells and/or packs are not damaged (or swollen in size).

(e) The products will not be put into service until MSHA has inspected them and deemed them in compliance with the terms and conditions of this petition.

(f) The products will not be used if methane is found at or above 1.0 percent. If the methane levels are higher than 1.0 percent while the products are being used, the equipment will immediately be deenergized and withdrawn from affected areas.

(g) Hand-held methane detectors will be MSHA approved and maintained in proper conditions in accordance with 30 CFR 75.320(a). Methane detectors should provide visual and audible warnings when they detect methane at or above 1.0 percent.

(h) A qualified person, in accordance with the definition in 30 CFR 75.151, will continuously monitor for methane immediately before and during the use of these products. When crews are working together, at least one qualified person will monitor for methane continuously. If continuous monitoring systems are installed by a longwall face, if they have audible and visual alarms for detecting methane at 1.0 or higher, this will satisfy the requirement for monitoring methane.

(i) Batteries for these products must be “changed out” or “charged” in intake air. Before the shift that these products will be used during, batteries and equipment will be charged so as not to need a replacement during the shift.

(j) The 3M™ Versaflo™ TR-800 PAPR will only use the 3M TR-830 Battery pack. This pack meets the UL1642 or IEC 62133 standards for safety. The following will be conducted for battery packs:

(1) They will be charged on the surface or in underground not within 150 feet of a worked-out area;

(2) they will be charged by the following products: 3M Battery Charger Kit TR-641N, or 3M 4-Station Battery Charger Kit TR-644N;

(3) they will only be disassembled or modified by those permitted by the manufacturer of the equipment;

(4) the battery will not be exposed to water (or get wet), not including incidental exposure of sealed battery packs as a result of overspray from dust suppression sprays or equipment cleaning;

(5) they will not be used near heat sources or placed in direct sunlight; and

(6) they will not be used when there is a performance decrease of greater than 20 percent in battery operated equipment (at the end of the product's life cycle). The battery will be disposed of properly.

(k) Electromagnetic interference from the products will be investigated by the petitioner and all safety devices will be worn by miners (devices such as proximity detection system miner wearable components, gas detectors, tracking system components, and communication devices). Before placing the PAPR systems into service, the petitioner will inform MSHA if any interference is identified and how to eliminate such interference. Miners will be trained on the above.

(l) Miners using these PAPRs will be trained to recognize hazards and limitations associated with PAPRs.

(m) All section foremen, section crew members, and others involved with PAPRs will receive training, as required in 30 CFR 48.7. The training will be provided before use in this area.

(n) Within 60 days of when the order becomes final, the petitioner will submit revisions for their 30 CFR part 48 training plan. This will include using the Self-Contained Self Rescuer while using a PAPR, initial training, and refresher training. For training, the petitioner will complete the 5000-23 form (MSHA Certificate of Training).

(o) The petitioner asserts that the proposed alternative method will at all times guarantee no less than the same measure of protection afforded by the existing standard.

Docket Number: M-2020-016-C.

Petitioner: Westmoreland San Juan Mining LLC, P.O. Box 561, Waterflow, NM 87421.

Mine: San Juan Mine 1, MSHA I.D. No. 29-02170, located in San Juan County, New Mexico.

Regulation Affected: 30 CFR 75.1002 (Installation of electric equipment and conductors; permissibility).

Modification Request: The petitioner requests a modification of the existing standard to permit an alternative method of compliance to allow the use of two Powered Air Purifying Respirator (PAPR) devices (the 3M™ Versaflo™ TR-800 PAPR and the PAF-0060 CleanSpace EX PAPR) for the respiratory protection of miners, within 150 feet of pillar workings or longwall faces.

The petitioner states that:

(a) The San Juan Mine 1 is an underground coal mining operation that uses longwall and continuous mining to fuel the nearby San Juan Generating Station.

(b) The current PAPR model approved by MSHA is the 3M Airstream Mining Headgear-Mounted PAPR system, which was discontinued by 3M on June 1, 2020. There are no other MSHA-approved units. Because of that, the petitioner is requesting the use of two alternative PAPR units.

As an alternative to the existing standard, the petitioner proposes the following:

(a) The petitioner requests the approval of the 3M™ Versaflo™ TR-800 PAPR, which is certified by UL under the ANSI/UL 60079-11 standard to be used in hazardous locations (it meets the most onerous intrinsic safety level and is acceptable for use in mines with potential firedamp).

(b) The second product is the PAF-0060 CleanSpace EX PAPR. It holds the following approvals: EN 12942:1998+A2:2008 TM3 (Europe), SANS 10338: 2009, (NRCS/8072/0090) (South Africa), AS/NZS1716:2012 PAPR-P2 (Australia/NZ), ISO 9001 (Quality Management System), IECEx: IEC 60079-0:2011 Ex ia I Ma, IECEx: IEC 60079-11:2011 Ex ib IIB T4 Gb, IIECEx Quality Assurance: IEC 80079-34:2011, ATEX/EN EX: EN 60079-0:2012 I M1 Ex ia I Ma, ATEX/EN EX: EN 60079-11:2012 II 2 G Ex ib IIB T4 Gb, ATEX Quality Assurance: Annex IV of Directive 94/9/EC (ATEX), EMC Standard: CISPR 11: 2010: Group 1 Class B.

(c) Before energizing either product, methane tests must be conducted in the mine atmosphere, in accordance with 30 CFR 75.360 and 30 CFR 75.362. The tests will continue in areas where the devices are worn.

(d) The above products will be examined before use and prior to being taken underground to make sure that they work according to the equipment manufacturer's recommendations and maintained in safe operating conditions. The examinations will include the following:

(1) The instrument will be checked for physical damage and the integrity of the case;

(2) Batteries will be removed for inspection for corrosion;

(3) Contact points will be inspected to ensure a secure connection to the battery;

(4) The battery will be reinserted and the power up will be shut down to ensure connections; and

(5) Battery compartment covers or attachments will be checked to make sure they are properly fastened.

(6) If a product uses lithium cells, the examination must ensure that lithium cells and/or packs are not damaged (or swollen in size).

(e) The products will not be put into service until MSHA has inspected them and deemed them in compliance with the terms and conditions of this petition.

(f) The products will not be used if methane is found at or above 1.0 percent. If the methane levels are higher than 1.0 percent while the products are being used, the equipment will immediately be deenergized and withdrawn from affected areas.

(g) Hand-held methane detectors will be MSHA approved and maintained in proper conditions in accordance with 30 CFR 75.320(a). Methane detectors should provide visual and audible warnings when they detect methane at or above 1.0 percent.

(h) A qualified person, in accordance with the definition in 30 CFR 75.151, will continuously monitor for methane immediately before and during the use of these products. When crews are working together, at least one qualified person will monitor for methane continuously. If continuous monitoring systems are installed by a longwall face, if they have audible and visual alarms for detecting methane at 1.0 or higher, this will satisfy the requirement for monitoring methane.

(i) Batteries for these products must be “changed out” or “charged” in intake air. Before the shift that these products will be used during, batteries and equipment will be charged so as not to need a replacement during the shift.

(j) The 3M™ Versaflo™ TR-800 PAPR will only use the 3M TR-830 Battery pack. This pack meets the UL1642 or IEC 62133 standards for safety. The following will be conducted for battery packs:

(1) They will be charged on the surface or in underground not within 150 feet of a worked-out area;

(2) they will be charged by the following products: 3M Battery Charger Kit TR-641N, or 3M 4-Station Battery Charger Kit TR-644N;

(3) they will only be disassembled or modified by those permitted by the manufacturer of the equipment;

(4) the battery will not be exposed to water (or get wet), not including incidental exposure of sealed battery packs as a result of overspray from dust suppression sprays or equipment cleaning;

(5) they will not be used near heat sources or placed in direct sunlight; and

(6) they will not be used when there is a performance decrease of greater than 20 percent in battery operated equipment (at the end of the product's life cycle). The battery will be disposed of properly.

(k) Electromagnetic interference from the products will be investigated by the petitioner and all safety devices will be worn by miners (devices such as proximity detection system miner wearable components, gas detectors, tracking system components, and communication devices). Before placing the PAPR systems into service, the petitioner will inform MSHA if any interference is identified and how to eliminate such interference. Miners will be trained on the above.

(l) Miners using these PAPRs will be trained to recognize hazards and limitations associated with PAPRs.

(m) All section foremen, section crew members, and others involved with PAPRs will receive training, as required in 30 CFR 48.7. The training will be provided before use in this area.

(n) Within 60 days of when the order becomes final, the petitioner will submit revisions for their 30 CFR part 48 training plan. This will include using the Self-Contained Self Rescuer while using a PAPR, initial training, and refresher training. For training, the petitioner will complete the 5000-23 form (MSHA Certificate of Training).

(o) The petitioner asserts that the proposed alternative method will at all times guarantee no less than the same measure of protection afforded by the existing standard.

Docket Number: M-2020-001-M.

Petitioner: Morton Salt, Inc., PO Box 1496, Weeks Island, LA 70560.

Mine: Weeks Island Mine and Mill, MSHA I.D. No. 16-00970, located in Iberia County, Louisiana.

Regulation Affected: 30 CFR 57.22603 (Blasting from the surface (II-A mines)).

Modification Request: The petitioner is requesting a modification of 30 CFR 57.22603(d) to allow experienced, competent employees to reenter the mine after a blasting, following the proposed guidelines of this petition. Employees would reenter the mine to determine if a monitor is not working properly, to isolate the area affected, and to make relevant ventilation changes to reduce methane levels. The petitioner is requesting a modification to 30 CFR 57.22603(c) to allow miners to reenter areas of the mine that are unaffected after blasting—non-blast areas when methane levels are below 0.5%.

The petitioner states that:

(a) The Weeks Island mine is a Category II-A gassy mine. Due to this status it is required to blast from the surface without miners underground.

The petition proposes the following:

(a) If monitoring systems show that methane levels in the mine are at 0.5% or above then the mine will be ventilated for at least 45 minutes and the mine power will remain deenergized. If methane levels remain above 0.5% or above, the power will continue to be deenergized and a competent person, will enter the mine, to test for methane and ventilation changes (for lowering methane levels).

(b) The mine will be entered from the fresh air intake shaft. The competent person will check ventilation controls on the fresh air side to ensure there is no damage.

(c) A miner is considered competent if that person is trained on how to use a hand-held monitor and knows how and where to test for methane. If someone is a qualified electrician then they are competent in addressing electrical issues underground.

(d) Before going underground, to ensure the calibration of all instruments, a bump test will be completed on all hand-held monitors. All competent persons will be trained on these procedures and training will be recorded on a 5000-23 form.

(e) If there is damage to ventilation controls, a competent person will repair them before leaving the mine through the fresh air intake. Repairs will be made in fresh air only. The mine power will continue to be off for an added 45 minutes while ventilation is used to lower methane levels. If methane is still at 0.5% or above then a competent person will enter the mine again from a fresh air intake to the active landing using a permissible ride. Methane levels will be checked via hand-held monitors and a monitor on a pole against the ceiling. Every area that reads methane levels of 0.5% or above will be verified, barricaded, and posted to restrict entry.

(f) The posted and barricaded areas affected by methane will be at least 200 feet away from the methane entry point. Such an area will only be opened when levels fall below 0.5%. Power to the affected areas and the out-by exhaust air route will be disconnected, locked and tagged out by a competent person. After that, all competent persons who entered the mine will return to the surface. Underground power will be reenergized outside the affected areas so that auxiliary fans can help lower methane levels and the mining operations can resume (outside of affected areas). Affected areas will not be opened up until they are below 0.5%; levels will be checked beginning at the barricaded area and working back into the affected areas once the barricade is in place.

(g) In unaffected areas of the mine, allowing workers to enter does not create any greater hazard than using energized equipment for work in unaffected areas when methane is below 0.5% in another area. After a blast, all methane monitors lose battery power within 24 hours, triggering 30 CFR 57.22603(c) if methane levels are at 0.5% for 24 hours. The petitioner states that it creates a greater hazard for miners to go underground every 24 hours to change batteries on methane monitors rather than allowing an entry where miners can adjust ventilators to remove gas from the mine effectively.

(h) The petitioner asserts that the proposed alternative method will at all times guarantee no less than the same measure of protection afforded by the standard, 30 CFR 57.22603.

Docket Number: M-2020-002-M.

Petitioner: U.S. Silica Company, 5263 Edmund Highway, West Columbia, South Carolina 29170.

Mine: Columbia Plant, MSHA I.D. No. 38-00138, located in Lexington County, South Carolina.

Regulation Affected: 30 CFR 56.13020 (Use of compressed air).

Modification Request: The petitioner requests a modification of the existing standard to permit an alternative method of an air compression system for cleaning clothes after mining operations, which will provide no less a degree of safety than that provided by the standard.

The petitioner states that:

(a) The alternative method provides a direct reduction of miners' exposure to respirable dust, thus reducing their health risks. The proposed alternative method has been jointly developed between Unimin Corporation and the National Institute for Occupational Safety and Health (NIOSH) and successfully tested by the NIOSH.

The petition proposes the following:

(a) Only miners trained in the operation of the clothes cleaning booth will be permitted to use the booth to clean their clothes.

(b) Petitioner will incorporate the NIOSH Clothes Cleaning Process and manufacturer's instruction manual into their MSHA Part 46 training plan and train affected miners in the process.

(c) Miners entering the booth will examine valves and nozzles for damage or malfunction and will close the door fully before opening the air valve. Any defects will be repaired prior to the booth being used.

(d) Miners entering the booth will wear eye protection, ear plugs or muffs for hearing protection, and respiratory protection. Respiratory protection will consist of a full-face or half-mask respirator that meets or exceeds the minimum requirements of a N95 filter to which the miner has been fit-tested. As an alternative, the use of a full-face respirator will meet the requirements for eye protection. A sign will be conspicuously posted requiring the use of the above personal protective equipment when the booth is entered.

(e) Air flow through the booth will be at least 2,000 cubic feet per minute to maintain negative pressure during use of the cleaning booth in order to prevent contamination of the environment outside the booth. Airflow will be in a downward direction, thereby moving contaminants away from the miner's breathing zone.

(f) Air pressure through the spray manifold will be limited to 30 pounds per square inch or less. A lock box with a single, plant manager controlled key will be used to prevent regulator tampering.

(g) The air spray manifold will consist of schedule 80 steel pipe that has a failure pressure of 1,300 pounds per square inch and will be capped at the base and actuated by an electrically controlled ball valve at the top.

(h) Air nozzles will not exceed 30 pounds per square inch gauge.

(i) The upper most spray of the spray manifold will be located below the booth user's breathing zone. Some type of mechanical device can be used to cover the upper air nozzles to meet the specific height of the user.

(j) Air nozzles will be guarded to eliminate the possibility of incidental contact, which could create mechanical damage to the air nozzles during the clothes cleaning process.

(k) Periodic maintenance checks of the booth will be conducted in accordance with the recommendations contained in the manufacturer's instruction manual.

(l) The air receiver tank supplying air to the manifold system will be of sufficient volume to permit no less than 20 seconds of continuous cleaning time.

(m) An appropriate hazard warning sign will be posted on the booth to state at a minimum, “Compressed Air” and “Respirable Dust”.

(n) A pressure relief valve designed for the booth's air reservoir will be installed.

(o) The mine will exhaust dust-laden air from the booth into a local exhaust ventilation system or duct outside the facility while ensuring there is no re-entrainment back into the structure.

The petitioner asserts that the proposed alternative method will at all times guarantee no less than the same measure of protection afforded by the standard.

Roslyn Fontaine,
Deputy Director,Office of Standards, Regulations, and Variances.

[FR Doc. 2020-17018 Filed 8-4-20; 8:45 am]

BILLING CODE 4520-43-P